FEDERAL MINE SAFETY AND HEALTH REVIEW COMMISSION

Sunshine Act Meeting

October 9, 2001.

Time and Date: 10 a.m., Wednesday, October 17, 2001.

Place: Room 6005, 6th Floor, 1730 K Street, NW., Washington, DC.

Status: Open.

Matters to be Considered: The Commission will consider and act upon the following:

1. Secretary of Labor on behalf of Noakes v. Gabel Stone Co., Docket No. CENT 2000-75-DM (Issues include whether the judge erred in refusing to find that the discriminatee failed to mitigate his damages while enrolled in college).

Time and Date: The Commission meeting will commence following upon the conclusion of the Commission meeting in Secretary of Labor on behalf of Noakes v. Gabel Stone Co., Docket No. CENT 2000-75-DM, which commences at 10:00 a.m. on Wednesday, October 17, 2001.

Place: Room 6005, 6th Floor, 1730 K Street, NW., Washington, DC.

Status: Open.

Matters to be Considered: The Commission will consider and act upon the following:

1. Secretary of Labor on behalf of Jackson v. Mountain Top Trucking Co., Docket No. KENT 613-D (Issues include whether the judge erred in concluding that the discriminatee failed to mitigate his damages while enrolled in college).

Time and Date: 10 a.m., Thursday, November 1, 2001.

Place: Room 6005, 6th Floor, 1730 K Street, NW., Washington, DC.

Status: Open.

Matters to be Considered: The Commission will consider and act upon the following:

1. American Coal Co., Docket Nos. LAKE 2000-111-R, etc. (Issues include whether tags required to be placed on all approved diesel engines under 30 CFR 7.90 must be supplied by the engine manufacturer).

Time and Date: The Commission meeting will commence following upon the conclusion of the Commission meeting in American Coal Co., Docket Nos. LAKE 2000-111-R, etc., which commences at 10:00 a.m. on Thursday, November 1, 2001.

Place: Room 6005, 6th Floor, 1730 K Street, NW., Washington, DC.

Status: Open.

Matters to be Considered: The Commission will consider and act upon the following:

1. Freeman United Coal Mining Co., Docket Nos. LAKE 2000-12-R, etc. (Issues include whether tags required to be placed on all approved diesel equipment under 30 CFR 7.90 must be supplied by the engine manufacturer).

Any person attending an open meeting who requires special accessibility features and/or auxiliary aids, such as sign language interpreters, must inform the Commission in advance of those needs. Subject to 29 CFR 2706.150(a)(3) and 2706.160(d).

CONTACT PERSON FOR MORE INFORMATION: Jean Ellen—(202) 653-5629 / (202) 708-9300 for TDD Relay / 1-800-877-8339 for toll free.

Jean H. Ellen,
Chief Docket Clerk.

[FR Doc. 01-25863 Filed 10-10-01; 12:28 pm]

BILLING CODE 6735-01-M